DEPARTMENT OF THE TREASURY

Financial Crimes Enforcement Network; Agency Information Collection Activities; Proposed Collection; Comment Request

AGENCY: Financial Crimes Enforcement Network (“FinCEN”), Treasury.

ACTION: Notice and request for comments.

SUMMARY: In order to comply with the requirements of the Paperwork Reduction Act of 1995, FinCEN intends to submit the information collections addressed in this notice for a three-year extension of approval by the Office of Management and Budget (“OMB”). Prior to submission of the extension request, FinCEN is soliciting comment on those information collections (31 CFR 103.22-103.29, 103.32-103.38, 103.64, 103.81-103.87, and Form TD F 90-22.1, Report of Foreign Bank and Financial Accounts).

DATES: Written comments should be received on or before September 7, 2001, to be assured of consideration.

ADDRESSES: Direct all written comments to: Office of Chief Counsel, Financial Crimes Enforcement Network, Department of the Treasury, Suite 200, 2070 Chain Bridge Road, Vienna, VA 22182-2536, Attention: PRA Comments—31 CFR Part 103. Comments also may be submitted by electronic mail to the following Internet address: “regcomments@fincen.treas.gov” with the caption in the body of the text, “Attention: PRA Comments—Part 103.”

FOR FURTHER INFORMATION CONTACT: Requests for additional information should be directed to Stacie A. Larson (703) 905-3590, Office of Chief Counsel, FinCEN, or Cynthia L. Clark, Deputy Chief Counsel, FinCEN (703) 905-3590. A searchable guide to the Code of Federal Regulations can be found on the Internet at: http://www.access.gpo.gov/nara/cfr.

SUPPLEMENTARY INFORMATION: The Bank Secrecy Act, Titles I and II of Public Law 91-508, as amended, codified at 12 U.S.C. 1829b, 12 U.S.C. 1951-1959, and 31 U.S.C. 5311-5330, authorizes the Secretary of the Treasury, inter alia, to issue regulations requiring records and reports that are determined to have a high degree of usefulness in criminal, tax, and regulatory matters. Regulations implementing Title II of the Bank Secrecy Act (codified at 31 U.S.C. 5311-5330) appear at 31 CFR part 103. The authority of the Secretary to administer Title II of the Bank Secrecy Act has been delegated to the Director of FinCEN.

The information collected and retained under the regulations addressed in this notice and the information collected on Form TD F 90-22.1 (as well as other Bank Secrecy Act reporting and recordkeeping requirements that are not the subject of this notice) assist federal, state and local law enforcement in the identification, investigation, and prosecution of individuals involved in money laundering, tax evasion, narcotics trafficking, organized crime, fraud, embezzlement and other crimes. The information also assists in tax collection and examination and other regulatory matters.

In accordance with the requirements of the Paperwork Reduction Act of 1995, 44 U.S.C. 3506(c)(2)(A), and its implementing regulations, the following information is presented concerning the information collections below.¹

¹ The information collections addressed in this notice are currently covered by one OMB Control Number—1506-0009. FinCEN intends to ask OMB to assign specific control numbers to the various information collections so that the administration of the information collections will be simpler in the future.

1. Title: Reports of transactions in currency (31 CFR 103.22(b)(1), 103.27(a), 103.27(d) and 103.28).

OMB Number: 1506-0009.

Abstract: Financial institutions must report transactions in currency that exceed $10,000 (31 CFR 103.22(b)(1)).² Before concluding any transaction with respect to which a report must be filed under section 103.22(b)(1), a financial institution must verify and record the name and address of the individual presenting the transaction and must record certain information about any person on whose behalf the transaction is conducted (31 CFR 103.28). Records of reports must be maintained for 5 years (31 CFR 103.27(a)).

² As explained below, 31 CFR 103.22(b)(2) requires casinos (and card clubs) to report these transactions.

Current Action: There is no change to the existing regulations.

Type of Review: Extension of a currently approved information collection.

Affected Public: Businesses or for-profit institutions, and non-profit institutions.

Burden: The burden for the reporting requirement in the regulations is reflected in the burden for IRS Form 4789. The estimated number of respondents is 229,200. The estimated annual number of responses is 13,000,000, with a reporting average of 19 minutes per response and a recordkeeping average of 5 minutes per response. The estimated total for the annual burden hours is 5,200,000.

2. Title: Reports of transactions in currency (31 CFR 103.22(b)(2)), 103.27(a), 102.27(d), and 103.28).

OMB Number: 1506-0009.

Abstract: Casinos (and card clubs) must report transactions in currency that exceed $10,000 in one business day (31 CFR 103.22(b)(2)). Before concluding any transaction with respect to which a report must be filed under section 103.22(b)(2), a casino must verify and record the name and address of the individual presenting the transaction and must record certain information about any person on whose behalf the transaction is conducted (31 CFR 103.28). Records of reports must be maintained for 5 years (31 CFR 103.27(a)).

Current Action: There is no change to the existing regulations.

Type of Review: Extension of a currently approved information collection.

Affected Public: Businesses or for-profit institutions.

Burden: The burden for the reporting requirement in the regulations is reflected in the burden for IRS Form 8362. The estimated number of respondents is 480. The estimated number of responses is 216,500, with a reporting average of 19 minutes per response and a recordkeeping average of 5 minutes per response. The estimated total for the annual burden hours is 86,600.

3. Title: Transactions of exempt person (31 CFR 103.22(d), 103.27(a) and 103.27(d)).

OMB Number: 1506-0009.

Abstract: Banks and other depository institutions (“banks”) may exempt from reporting under 31 CFR 103.22(b)(1) currency transactions exceeding $10,000 by certain customers referred to as eligible persons (31 CFR 103.22(d)). Banks exempt these customers by filing a form designating them as exempt persons and maintaining certain records necessary to document the basis for the exemption and compliance with the exemption procedures of section 103.22(d). For two categories of eligible persons—non-listed businesses and payroll customers—the exemption must be renewed every two years by certifying the application of the bank's suspicious activity reporting program to those customers and recording any changes in control of those customers on a newly filed designation form. Records must be maintained for five years.

Current Action: There is no change to the existing regulations.

Type of Review: Extension of a currently approved information collection.

Affected Public: Businesses or for-profit institutions, and non-profit institutions.

Burden: The burden for the reporting requirement in the regulations is reflected in the burden for Form TD F 90-22.53. The estimated number of respondents is 22,900. The estimated number of responses is 152,000 with a combined reporting and recordkeeping average of 82 minutes per response. The estimated total for annual burden hours is 182,400.

4. Title: Reports of transportation of currency or monetary instruments (31 CFR 103.23 and 103.27).

OMB Number: 1506-0009.

Abstract: A person must file a report with Treasury if the person knowingly transports currency or monetary instruments of more than $10,000 at one time into or out of the United States, or receives currency or monetary instruments of more than $10,000 at one time transported into the United States from or through a place outside the United States (31 CFR 103.23 and 103.27).

Current Action: There is no change to the existing regulations.

Type of Review: Extension of a currently approved information collection.

Affected Public: Individuals, businesses or for-profit institutions, and non-profit institutions.

Burden: The burden for the reporting requirement in the regulations is reflected in the burden for Customs Service Form 4790. The estimated number of responses is 180,000, with a reporting average of 11 minutes per response. The estimated total for the annual burden hours is 33,000.

5. Title: Reports of foreign financial accounts (31 CFR 103.24, 103.27(d), 103.32) and Form TD F 90-22.1, Report of Foreign Bank and Financial Accounts.

OMB Number: 1506-0009.

Form Number: TD F 90-22.1.

Abstract: Every person having a financial interest in, or signature authority over, a foreign account over $10,000 must file a report of the account (31 CFR 103.24, 103.27(d)) and must maintain records that contain the name in which the account is maintained, the number of the account, the name and address of the foreign bank, and the type of account and maximum value of the account (31 CFR 103.32).

Current Action: There is no change to the existing regulations or the form.

Type of Review: Extension of a currently approved information collection.

Affected Public: Individuals, businesses or other for-profit institutions, and non-profit institutions.

Burden: The burden for the reporting requirement in the regulations is reflected in the burden for Form TD F 90-22.1. The estimated number of respondents is 170,300. The estimated number of responses is 170,300, with a reporting average of 10 minutes per response and a recordkeeping average of 5 minutes per response. The estimated total for annual burden hours is 42,575.

6. Title: Reports of transactions with foreign financial agencies (31 CFR 103.25).

OMB Number: 1506-0009.

Abstract: Treasury may, by regulation, require specified financial institutions to report transactions by persons with designated foreign financial agencies.

Current Action: There is no change to the existing regulation.

Type of Review: Extension of a currently approved information collection.

Affected Public: Businesses or for-profit institutions, and non-profit institutions.

Burden: The estimated number of respondents per year is 1. The estimated number of responses is 1, with a reporting burden of 1 hours per respondent, for a total annual burden of 1 hour.³

³ Should FinCEN issue regulations under this authority, it will provide a burden estimate specific to those regulations.

7. Title: Reports of certain domestic coin and currency transactions (31 CFR 103.26 and 103.33(d)).

OMB Number: 1506-0009.

Abstract: Upon a finding that additional reporting or recordkeeping is necessary to carry out the purposes, or prevent the evasion, of the Bank Secrecy Act, Treasury may issue an order requiring financial institutions or groups of financial institutions in certain geographic locations to report certain transactions in prescribed amounts for a limited period of time (31 CFR 103.26). Financial institutions subject to a geographic targeting order must maintain records for such period of time as the order requires but not more than 5 years (31 CFR 103.33(d)).

Current Action: There is no change to the existing regulation.

Type of Review: Extension of a currently approved information collection.

Affected Public: Businesses or for-profit institutions, and non-profit institutions.

Burden: The estimated number of respondents per year is 3,200. The estimated number of responses is 17,000, with a reporting burden of 19 minutes per response and a recordkeeping burden of 5 minutes per response. The total estimated annual burden is 6,800 hours.⁴

⁴ Although the burden is stated as an annual burden in accordance with the Paperwork Reduction Act, the estimated annual burden is not intended to indicate that there is a geographic targeting order in effect throughout a year or in each year.

7. Title: Purchases of bank checks and drafts, cashier's checks, money orders and traveler's checks (31 CFR 103.29 and 31 CFR 103.38).

OMB Number: 1506-0009.

Abstract: Financial institutions must maintain records of certain information related to the sale of bank checks and drafts, cashiers checks, money orders, or traveler's checks when the sale involves currency between $3,000-$10,000. The records must be maintained for a period of five years and be made available to Treasury upon request.

Current Action: There is no change to the existing regulation.

Type of Review: Extension of a currently approved information collection.

Affected Public: Businesses or for-profit institutions, and non-profit institutions.

Burden: The estimated number of recordkeepers is 60,900. The average burden per recordkeeper is 7.5 hours, for a total estimated annual recordkeeping burden of 456,750 hours.

9. Title: Records to be made and retained by financial institutions (31 CFR 103.33 and 103.38).

OMB Number: 1506-0009.

Abstract: Each financial institution must retain an original or copy of records related to extensions of credit in excess of $10,000 (other than those secured by real property), and records related to transfers of funds, currency, other monetary instruments, checks, investment securities, or credit of more than $10,000 to or from the United States (31 CFR 103.33(a)-(c)). Banks and non-bank financial institutions must also maintain records related to, and include certain information as part of, funds transfers or transmittals of funds involving more than $3,000 (31 CFR 103.33(e)-(f), and 103.33(g)). The required records must be maintained for five years (31 CFR 103.38).

Current Action: There is no change to the existing regulation.

Type of Review: Extension of a currently approved information collection.

Affected Public: Businesses or for-profit institutions, and non-profit institutions.

Burden:

31 CFR 103.33(a)-(c). The estimated number of recordkeepers is 22,900. The estimated annual recordkeeping burden per recordkeeper is 50 hours, for a total estimated annual recordkeeping burden of 1,145,000 hours .

31 CFR 103.33(e)-(f). The estimated number of recordkeepers is 35,500. The estimated annual recordkeeping burden per recordkeeper is 16 hours, for a total estimated annual recordkeeping burden of 568,000.

31 CFR 103.33(g). The estimated number of recordkeepers is 35,500. The estimated annual recordkeeping burden per recordkeeper is 12 hours, for a total estimated annual recordkeeping burden of 426,000.

10. Title: Additional records to be made and retained by banks (31 CFR 103.34 and 103.38).

OMB Number: 1506-0009.

Abstract: A bank must make and retain a record of the taxpayer identification number (or other identifying information in the case of a non-resident alien) of certain customers buying or redeeming a certificate of deposit or opening a deposit or share account. A bank must maintain a list containing the names, addresses and account numbers of those persons from whom it has been unable to obtain the taxpayer identification number (and make the list available to the Secretary, upon request). A bank must retain an original or copy of certain documents, as specified in section 103.34. The required records must be maintained for five years (31 CFR 103.38).

Current Action: There is no change to the existing regulation.

Type of Review: Extension of a currently approved information collection.

Affected Public: Businesses or for-profit institutions, and non-profit institutions.

Burden: The estimated number of recordkeepers is 22,900. The estimated annual recordkeeping burden per recordkeeper is 100 hours for a total annual recordkeeping burden of 2,290,000 hours.

11. Title: Additional records to be made and retained by brokers or dealers in securities (31 CFR 103.35 and 103.38).

OMB Number: 1506-0009.

Abstract: A broker or dealer in securities must make and retain a record of the taxpayer identification number (or other identifying information in the case of a non-resident alien) of customers maintaining an account with the broker or dealer and the social security number of each individual having a financial interest in the account. A broker or dealer must maintain a list containing the names, addresses and account numbers of those persons from whom it has been unable to obtain the taxpayer identification number (and make the list available to the Secretary, upon request). A broker or dealer in securities must retain an original or copy of certain documents, as specified in section 103.35. The required records must be maintained for five years (31 CFR 103.38).

Current Action: There is no change to the existing regulation.

Type of Review: Extension of a currently approved information collection.

Affected Public: Business and other for-profit institutions.

Burden: The estimated number of recordkeepers is 8,300. The estimated annual recordkeeping burden per recordkeeper is 100 hours, for a total estimated annual recordkeeping burden of 83,000 hours.

12. Title: Additional records to be made and retained by casinos (31 CFR 103.36 and 103.38).

OMB Number: 1506-0009.

Abstract: Casinos (and card clubs) must make and retain a record of the name, permanent address, and taxpayer identification number each person who deposits funds with the casino, opens an account at the casino, or to whom the casino extends a line of credit (and maintain a list, available to the Secretary upon request, of the names and addresses of persons who do not furnish a taxpayer identification number), and must retain the original or a copy of certain documents, as specified in section 103.36 (31 CFR 103.36(a)&(b)(1)-(8)). Casinos must also maintain a list of transactions with customers involving certain instruments (31 CFR 103.36(b)(9)). Card clubs must maintain records of currency transactions by customers and records of activity at cages (31 CFR 103.36(b)(11)). Casinos that input, store, or retain required records on computer disk, tape or other machine readable media must maintain the records on such media (31 CFR 103.36(c)). Required records must be maintained for five years (31 CFR 103.38).

Current Action: There is no change to the existing regulation.

Type of Review: Extension of a currently approved information collection.

Affected Public: Business and other for-profit institutions.

Burden:

31 CFR 103.36(a)&(b)(1)-(8). The estimated number of recordkeepers is 480. The estimated annual recordkeeping burden per recordkeeper is 100 hours, for a total estimated annual recordkeeping burden of 48,000.

31 CFR 103.36(b)(9). The estimated number of recordkeepers is 480. The estimated annual recordkeeping burden per recordkeeper is 7.5 hours, for a total estimated annual recordkeeping burden of 3,600 hours.

31 CFR 103.36(b)(11). The estimated number of recordkeepers is 62. The estimated number of transactions is 215,000 annually and the total estimated annual recordkeeping burden is 686 hours.

31 CFR 103.36(c). The estimated number of respondents is 480. The estimated annual recordkeeping burden per recordkeeper is 4 hours, for a total estimated annual recordkeeping burden of 1,920 hours.

13. Title: Additional records to be made and retained by currency dealers or exchangers (31 CFR 103.37 and 103.38).

OMB Number: 1506-0009.

Abstract: A currency dealer or exchanger must make and maintain a record of the taxpayer identification number of certain persons for whom a transaction account is opened or a line of credit is extended, and must maintain a list containing the names, addresses, and account or credit line numbers of those persons from whom it has been unable to secure such information. A currency dealer or exchanger must retain the original or a copy of certain documents, as specified in section 103.37. The required records must be maintained for five years (31 CFR 103.38).

Current Action: There is no change to the existing regulation.

Type of Review: Extension of a currently approved information collection.

Affected Public: Business and other for-profit institutions.

Burden: The estimated number of recordkeepers is 2,300. The estimated annual recordkeeping burden per recordkeeper is 16 hours, for a total estimated annual recordkeeping burden of 368,000 hours.

14. Title: Nature of records and retention period (31 CFR 103.38).

OMB Number: 1506-0009.

Abstract: Records required to be retained by a financial institution under 31 CFR part 103 must be retained for 5 years, except for records or reports required under 103.26 which shall be retained for the period of time specified in the targeting order imposing the recordkeeping or reporting requirement to which the particular retention period relates.

Current Action: There is no change to the existing regulation.

Type of Review: Extension of a currently approved information collection.

Affected Public: Businesses or for-profit institutions, and non-profit institutions.

Burden: The burden for this regulation is reflected in the reporting and recordkeeping provisions of 31 CFR part 103.

15. Title: Special rules for casinos (31 CFR 103.64, 103.36(b)(10), and 103.38).

OMB Number: 1506-0009.

Abstract: This section provides special rules for casinos, including the requirement that casinos maintain a written compliance program.

Current Action: There is no change to the existing regulation.

Type of Review: Extension of a currently approved information collection.

Affected Public: Business and other for-profit institutions.

Burden: The estimated number of recordkeepers is 480. The estimated annual recordkeeping burden per recordkeeper is 100, for a total estimated annual recordkeeping burden of 48,000 hours.

16. Title: Administrative rulings (31 CFR 103.81-87).

OMB Number: 1506-0009.

Abstract: These sections address administrative rulings under the Bank Secrecy Act. They explain how to submit a ruling request (103.81), how nonconforming requests are handled (103.82), how oral communications are treated (103.83), how rulings are issued (103.85), how rulings are modified or rescinded (103.86), and how information may be disclosed (103.87).

Current Action: There is no change to the existing regulation.

Type of Review: Extension of a currently approved information collection.

Affected Public: Individuals, businesses or for-profit institutions, and non-profit institutions.

Burden: The estimated number of responses is 60 annually, with a burden of 1 hours per submission, for a total annual burden of 60 hours.

The following paragraph applies to all the collections of information addressed in this notice:

An agency may not conduct or sponsor, and a person is not required to respond to, a collection of information unless the collection of information displays a valid OMB control number. Records required to be retained under the Bank Secrecy Act must be retained for five years. Generally, information collected pursuant to the Bank Secrecy Act is confidential, but may be shared as provided by law with regulatory and law enforcement authorities.

Requests for Comments: Comments submitted in response to this notice will be summarized and/or included in the request for OMB approval. All comments will become a matter of public record. Comments are invited on: (a) Whether the collection of information is necessary for the proper performance of the functions of the agency, including whether the information shall have practical utility; (b) the accuracy of the agency's estimate of the burden of the collection of information; (c) ways to enhance the quality, utility, and clarity of the information to be collected; (d) ways to minimize the burden of the collection of information on respondents, including through the use of automated collection techniques or other forms of information technology; and (e) estimates of capital or start-up costs and costs of operation, maintenance and purchase of services to provide information.

Dated: June 24, 2001.
James F. Sloan,
Director, Financial Crimes Enforcement Network.

[FR Doc. 01-17089 Filed 7-6-01; 8:45 am]

BILLING CODE 4820-03-P